DEPARTMENT OF HEALTH AND HUMAN SERVICES

Centers for Disease Control and Prevention

[Program Announcement 03071]

Training Program for Violence Prevention Leaders and Practitioners; Notice of Availability of Funds

Application Deadline: July 24, 2003.

A. Authority and Catalog of Federal Domestic Assistance Number

This program is authorized under section 317(k)(D) of the Public Health Service Act, (42 U.S.C. 247b(k)(1)(D)), as amended. The Catalog of Federal Domestic Assistance number is 93.136.

B. Purpose

The Centers for Disease Control and Prevention (CDC) announces the availability of fiscal year (FY) 2003 funds for a cooperative agreement for a Training Program for Violence Prevention Leaders and Practitioners. The initial focus of the training program will be the prevention of youth violence, suicide and violence against women including intimate partner violence and sexual violence. Applicants should address all three of these focus areas in the year one application. This program addresses the “Healthy People 2010” focus area of Injury and Violence Prevention.

The purpose of this program is to support the development or enhancement of a violence prevention training program within an organization that currently provides trainings. This program will build the capacity of practitioners working to prevent violence at the state, local and/or community levels including CDC-funded grantees. More specifically, the training program will build the leadership, knowledge and skills necessary for practitioners to plan, implement and evaluate violence prevention programs using public health principles such as:

• Evidence-based program planning and development (i.e., using data to drive program decisions).

• Ecological framework or other multi-level approaches to prevention.

• Programs designed with a focus on primary prevention.

• Population-based strategies.

• Program evaluation.

• Feedback process from practice to research (i.e., using findings “from the field” to shape future research activities).

The program consists of two parts:

Part I: Conduct and evaluate trainings that include the development and implementation of various training modules based on prevention strategies using public health principles. Trainings should be grounded in research and theory.

Part II: Provide consultation that supplements the knowledge and skills gained through the training sessions. Consultation should be provided to training participants, as well as to other CDC-funded grantees.

At this time, the training program's focus will be on the prevention of violence against women, youth violence and suicide. Potential audiences include representatives from state and territorial health departments, state domestic violence, suicide, sexual violence or youth violence prevention coalitions, sexual and domestic violence programs, coordinated community response teams (CCRs), rape crisis centers and other nonprofit organizations such as youth member and faith-based organizations. The audience for the youth violence and suicide training should be representatives from community-based and not school-based organizations.

Long-term objectives of the cooperative agreement are to:

1. Develop a network of practitioners as leaders who can effectively develop, implement, and evaluate violence prevention programs at the state and local levels.

2. Enhance the leadership skills of training participants to effectively promote the use of public health principles in the prevention of violence.

Measurable outcomes of the program will be in alignment with the following performance goal for the National Center for Injury Prevention and Control (NCIPC): Increase the capacity of injury prevention and control programs to address the prevention of injuries and violence.

C. Eligible Applicants

Applications may be submitted by public and private nonprofit organizations such as universities, colleges, research institutions, faith-based organizations, and community-based organizations.

Note: Title 2 of the United States Code section 1611 states that an organization described in section 501(c)(4) of the Internal Revenue Code that engages in lobbying activities is not eligible to receive Federal funds constituting an award, grant or loan.

D. Funding

Availability of Funds

Approximately $950,000 is available to fund one award. The project period will be up to four years. In FY 2003 only, $400,000 of this amount will be available for topic specific training in the prevention of youth violence, suicide and violence against women. Funding estimates may change each fiscal year within a range of $550,000-$950,000. It is expected that the award will begin on or about September 15, 2003 and will be made for a 12-month budget period.

Continuation awards within an approved project period will be made on the basis of satisfactory progress as evidenced by required reports and the availability of funds.

Use of Funds

These funds are intended for an organization that currently provides trainings and has the capacity to implement a violence prevention training program grounded in public health principles. Funds shall not be used to create a new infrastructure. Additionally, funds shall not be used to support (1) victim services or criminal justice and law enforcement approaches to prevent violence against women and (2) school-based approaches to prevent youth violence or suicide. CDC-funded grantees should not be charged a registration fee to participate in the training program.

Funding Preference

Given differences in the state of the field for violence against women, youth violence, and suicide prevention the following is provided as a preference for each area. For violence against women the funding should include a balance between intimate partner/domestic violence and sexual violence. For youth violence, the funding should support wide spread dissemination of evidence-based strategies and should include but not be limited to a satellite broadcast showcasing such strategies. For suicide prevention the funding should support community based capacity building including, at a minimum, a training effort related to working with the media or developing communications campaigns.

Recipient Financial Participation

Matching funds are not required for this program.

E. Program Requirements

In conducting activities to achieve the purpose of this program, the recipient will be responsible for the activities listed in 1. Recipient Activities, and CDC will be responsible for the activities listed in 2. CDC Activities. In addition, the recipient must integrate the initial focus areas identified in the program purpose. For year 01 these include youth violence, violence against women and suicide prevention.

1. Recipient Activities (a Thru l)

The recipient, in collaboration with CDC, will be responsible for the development and subsequent implementation of a comprehensive training program for violence prevention practitioners at the state, local and community level. The recipient activities are designated as core and topic specific

Core Recipient Activities (a thru g)

(a) Establish a Steering Committee

Establish a steering committee comprised of national, state and local experts, leaders and CDC-funded grantees. Committee members should represent multiple disciplines including public health, social work, psychology, anthropology and behavioral sciences. Examples of steering committee members may include practitioners, researchers, faculty, clinicians and advocates. The role of the committee will be to:(1) Provide expertise in the needs of the field and how the various training modules can be responsive to those needs, (2) recommend experts in the areas of violence prevention and experts in public health and other disciplines that work to prevent violence for additional consultation in the development of the various training modules, (3) help identify training tools, resources, and materials that could be useful to this effort and (4) ensure that the training program is practical, relevant and considerate of the needs and resources in the field.

(b) Provide a Training Facility

Provide a handicapped-accessible facility for any onsite training. The meeting facility should be near adequate housing, dining, and recreation for the participants. The site chosen should enhance the interactive nature of the training experience.

(c) Provide Support for Training Program

Provide logistical and administrative support for the training program.

(d) Conduct Trainings

Conduct the trainings. The initial training module must be developed within the first six months and conducted within the first nine months of the Year-1 budget period.

(e) Provide Additional Consultation

After each training, provide additional consultation to participants, as well as other CDC-funded grantees on public health principles such as: evidence-based program planning and development (i.e., using data to drive program decisions); the ecological framework or other multi-level approaches to prevention; designing programs with a focus on primary prevention; population-based strategies; program evaluation; and the feedback process from practice to research (i.e., using findings “from the field” to shape future research activities). Consultations may take various forms including, but not limited to: In-person, telephone or Internet/e-mail based consultations and the dissemination of written tools that supplement the content of training modules.

(f) Develop and Disseminate Tools

Develop and disseminate written tools and other usable products such as CD-ROMS or web-based tools to support the implementation of new knowledge and skills taught through the training modules. Methods for disseminating information and resources may include but are not limited to listservs, newsletters and web-based broadcasts.

(g) Provide Feedback to CDC

Provide feedback to CDC after each training module regarding (1) the needs and challenges expressed by the participants and (2) successes and lessons learned in developing, implementing and evaluating the training. The participants' needs and challenges should become apparent to the recipient as they interact with participants in the plan, implementation and evaluation of training modules, as well as during additional follow-up activities. The information gathered will enable CDC to promote research and programmatic activities that are more responsive to the field of practitioners.

Topic Specific Recipient Activities (h Thru l)

(h) Develop a Training Plan

In collaboration with the steering committee and CDC, the recipient will develop and refine the plan for the training program specific to the specified topic areas. The recipient, steering committee and CDC should reach agreement on the topics for the various training modules.

(i) Identify Training Faculty

Identify appropriate faculty for each topic specific training module. Potential faculty could include individuals from the private sector, professional and voluntary organizations, academic institutions, and governmental agencies. The list of potential faculty should have proven training and content expertise in prevention strategies or specific violence prevention expertise. Additionally, faculty should have experience providing trainings to practitioners in the field. The faculty should be available to confer with the participants for specified periods of time as the trainings occur, as well as offer additional consultation to participants after the trainings and other CDC-funded grantees.

(j) Develop Curriculum and Delivery Modes

Develop a curriculum in consultation with training faculty as well as CDC and the steering committee. Each training module should include: The proposed agenda, training materials, the mode of delivery, and written tools supporting implementation after the training is complete. Modes of delivering trainings may include but are not limited to half-day to week-long workshops, seminars at conferences and Internet, satellite or audio conference-based series. Trainings should be in-depth, participatory and skill building opportunities with a combination of didactic and interactive exercises. Each module should be applicable to specific violence prevention topics, while still adhering to core principles of public health. In year one, the recipient should offer a satellite broadcast to community-based youth violence prevention practitioners.

(k) Select Training Participants

In collaboration with CDC, develop a process or criteria by which training participants are invited to take part in the training modules. The training program is intended to provide CDC grantees with specialized training in public health principles and consultation that supplements their knowledge and skills. CDC-funded grantees should have priority in participating in the training modules. However, trainings will be open to other public health or community-based violence prevention practitioners as well. In addition, the recipient should develop a method that allows participants to apply for scholarships to assist in travel costs if travel is required to training location.

(l) Develop Training Objectives and Evaluation Plan

Develop training objectives and an evaluation plan to determine the effectiveness of each training module in enhancing the skills of the participants. It is anticipated that the evaluation plan will contain short- and long-term objectives. The short-term evaluation component may address issues such as the quality of the instruction, the adequacy of the materials and training site, the degree to which participant's learning objectives were met, whether the instructional objectives were achieved, whether participants feel confident in their ability to apply the skills learned and whether their community would be able and willing to use the techniques. After implementation of each training module, the recipient will refine the training module based on the participants' evaluations. The long-term evaluation component will assess the long-term impact of the training, and will focus on issues such as: (1) Have participants' skills in planning, implementing and evaluating violence prevention programs using public health principles improved as a result of participation in the training program? (2) Have participants been able to effectively use public health principles in their work as a result of the training?

2. CDC Activities

(a) Provide annual guidance on priority training topics.

(b) Provide technical assistance and consultation in all phases of planning, implementation and evaluation of the training program.

(c) Assist in the identification of state and local experts, leaders and CDC-funded grantees to represent the field on a steering committee.

(d) Provide assistance in identifying potential faculty members to be recruited from the private sector, professional and voluntary organizations, academic institutions, and governmental agencies.

(e) Collaborate in the development of a curriculum for each training modules including the agenda, training materials, mode of delivery, and tools.

(f) Assist in the identification of participants for the training modules.

(g) Collaborate in the development of objectives for the training program as well as assist in the development of the short- and long-term evaluation plans.

(h) Assist in the design, development and dissemination of violence prevention tools and educational materials to maximize their use for CDC-funded grantees, violence prevention leaders and public health practitioners.

(i) Provide technical consultation on relevant current and emerging research.

(j) Participate in meetings and conference calls.

F. Content

Applications

The Program Announcement title and number must appear in the application. Use the information in the Program Requirements, Other Requirements, and Evaluation Criteria sections to develop the application content. Your application will be evaluated on the criteria listed, so it is important to follow them in laying out your program plan. The narrative and attachments should be double-spaced, printed on one side, with one-inch margins, unreduced 12-point font, and printed on 8.5 x 11 inch paper. The narrative should be no more than 25 pages, numbered consecutively. The application should not be bound.

The narrative should consist of at a minimum:

1. Abstract (one-page summary of the application).

2. Applicant's Relevant Expertise and Experience.

3. Plan to Develop and Implement the Training Program.

4. Plan to Integrate Public Health Principles and Theory into the Training Program.

5. Applicant's Capacity and Staffing.

6. Collaboration.

7. Measures of Effectiveness.

8. Proposed Budget and Justification (The proposed budget should specify core activities and detail those costs associated with topic specific trainings).

G. Submission and Deadline

Application Forms

Submit the signed original and two copies of PHS 5161-1 (OMB Number 0920-0428). Forms are available at the following Internet address: http://www.cdc.gov/od/pgo/forminfo.htm.

If you do not have access to the Internet, or if you have difficulty accessing the forms on-line, you may contact the CDC Procurement and Grants Office Technical Information Management Section (PGO-TIM) at: (770) 488-2700. Application forms can be mailed to you.

Submission Date, Time, and Address

The application must be received by 4 p.m. Eastern Time July 24, 2003. Submit the application to: Technical Information Management-PA#03071, CDC Procurement and Grants Office, 2920 Brandywine Road, Atlanta, GA 30341-4146.

Applications may not be submitted electronically.

CDC Acknowledgement of Application Receipt

A postcard will be mailed by PGO-TIM, notifying you that CDC has received your application.

Deadline

Applications shall be considered as meeting the deadline if they are received before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application

Applicants are required to provide measures of effectiveness that will demonstrate the accomplishment of the various identified objectives of the cooperative agreement. (See Evaluation Criteria number six for more specific details.)

An independent review group appointed by CDC will evaluate each application against the following criteria:

1. Applicant's Relevant Expertise and Experience—(25 Points)

(a) The extent to which the applicant understands and has applied public health principles to past trainings with practitioners.

(b) The extent to which the applicant has experience in planning, implementing and evaluating training programs. The applicant has included, as attachment A, a sample curriculum from a past training.

(c) The extent to which the applicant has experience in providing trainings or other related activities on the prevention of violence.

(d) The extent to which the applicant has experience providing consultation to supplement the knowledge and skills taught through the training modules.

(e) The extent to which the applicant has experience developing and disseminating written tools and other products, such as CD-roms or web-based tools, on public health principles.

(f) The extent to which the applicant documents the ability to provide CEU or CME credit.

2. Plan To Develop and Implement the Training Program—(25 Points)

(a) The extent to which the applicant has provided a plan that responds to the funding preferences indicated and includes (1) a clear description of the role and involvement of the steering committee; (2) the recruitment of expert faculty; (3) the steps to develop and implement individual training modules; (4) the process of selecting participants with priority given to CDC-funded grantees, (5) the overall objectives and evaluation plan of the project and (6) an adequate description of how it will provide logistical and administrative support for trainings including plans for conference facilities, staffing, travel arrangements and technical arrangements such as conference call lines and satellite and web capabilities.

(b) The extent to which the applicant provides a realistic plan given the available resources. The plan should include an estimated number of trainings the applicant can provide per year and the number of participants the applicant can serve through the various modes of delivery including but not limited to half-day to week-long workshops, seminars at conferences and Internet or audio conference-based series.

(c) The extent to which the applicant demonstrates creativity, flexibility and responsiveness to participant needs and CDC in planning the training modules. The applicant presents a training plan that is practical, relevant and considerate of the needs and resources in the field.

(d) The extent to which the applicant adequately addresses methods to be employed to provide feedback to CDC on (1) needs and challenges expressed by the participants and (2) successes and lessons learned in developing, implementing and evaluating training modules.

(e) The extent to which the applicant adequately addresses methods to be employed to provide consultation to participants on the implementation of strategies that promote evidence based practice.

(f) The extent to which the applicant fully and adequately describes how it will develop and disseminate written tools and other useable products such as CD-roms or web-based tools to the field.

(g) The extent to which the applicant includes a plan that covers the three-year project period with a detailed timeline for year one. The timeline for year one should include plans for the development of the first training module in the first six months and implementation in the first nine months.

(h) The extent to which the applicant describes how it will incorporate public health principles with the prevention of violence against women, youth violence and suicide in the development and implementation of the training modules.

3. Plan To Integrate Public Health Principles and Theory into the Training Program—(25 Points)

(a) The extent to which the applicant has provided a training plan that reflects a clear understanding of public health principles, such as: Evidence-based program planning and development (i.e., using data to drive program decisions); the ecological framework or other multi-level approaches to prevention; designing programs with a focus on primary prevention; population-based approaches; program evaluation; and the feedback process from practice to research (i.e., using findings “from the field” to shape future research activities).

(b) The extent to which the applicant's training plan demonstrates a clear theoretical framework that guides the use of public health principles. Various theoretical models that can guide the training include but are not limited to diffusion of innovation, stages of change or social justice.

(c) The extent to which the applicant provides a clear description on how they will integrate public health principles and a theoretical framework to the development of the training program.

(d) The extent to which the applicant has provided a plan that: (1) Demonstrates an understanding of the principles of adult learning and skill mastery/adoption; and (2) applies these principles to the development of the training modules.

4. Applicant's Capacity and Staffing—(15 Points)

(a) The extent to which the applicant demonstrates an existing capacity and infrastructure (including institutional experience, evidence of leadership, and current activities in the field) to manage the training program and carry out the required activities in the cooperative agreement. The applicant has included an organizational chart as Attachment B.

(b) The extent to which the applicant provides evidence that personnel assigned to key roles and having direct contact with participants have a proven track record of successfully conducting trainings for practitioners. The applicant has included, as Attachment C, curriculum vitae (CV) for each of the professional staff and faculty who will be involved in the project. This document should minimally include the person's name, educational background, work experience, relevant publications and awards, and percentage of time devoted to the project. Additionally, the applicant has included, as Attachment D, letters of support from faculty and consultants that the applicant has indicated will be utilized during the duration of the project. CVs and letter of support should also include if the person has expertise in prevention of violence against women, youth violence or suicide.

(c) The extent to which the applicant provides evidence that other assigned staff have appropriate technical and logistical skills to support the completion of the trainings and the continuation of training support. The applicant has included, as Attachment E, names and CVs of other staff who will be assigned to the project.

5. Collaboration—(10 Points)

(a) The extent to which the applicant demonstrates a willingness to collaborate with CDC in the planning, implementation and evaluation of the training program, and the development of training tools.

(b) The extent to which the applicant demonstrates experience in collaborating effectively with other organizations at the national, state, and local levels. Additionally, the applicant has included, as Attachment F, letters of commitment from organizations collaborating with the applicant on the activities in the cooperative agreement.

(c) The extent to which the applicant demonstrates an understanding of the impediments and facilitators of effective collaboration between organizations.

6. Measures of Effectiveness (Not Scored)

Measures of effectiveness must relate to the performance goal stated in the purpose: Increase the capacity of injury prevention and control programs to address the prevention of injuries and violence. Also, measures of effectiveness must reflect the recipient activities section of this announcement. Measures must be objective and quantitative and must measure the intended outcome. These measures of effectiveness must be submitted with the application and will be an element of evaluation.

7. Budget (Not Scored)

The applicant should provide a detailed budget with complete line-item justification of all proposed costs consistent with the stated activities in the program announcement. Details must include a breakdown in the categories of personnel (with time allocations for each), staff travel, communications and postage, equipment, supplies, and any other costs. The budget projection must also include a narrative justification for all requested costs. Any sources of additional funding beyond the amount stipulated in this cooperative agreement should be indicated, including donated time or services. For each expense category, the budget should indicate the CDC share, the applicant share and any other support. These funds should not be used to supplant existing efforts.

I. Other Requirements

Technical Reporting Requirements

Provide CDC with original plus two copies of:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

Send all reports to the Grants Management Specialist identified in the “Where to Obtain Additional Information” section of this announcement.

Additional Requirements

The following additional requirements are applicable to this program. For a complete description of each, see Attachment I of the program announcement, as posted on the CDC Web site.

AR-10 Smoke Free Workplace Requirements

AR-11 Healthy People 2010

AR-12 Lobbying Restrictions

AR-13 Prohibition of Use of CDC Funds for Certain Gun Control Activities

AR-15 Proof of Non-Profit Status

Executive Order 12372 does not apply to this program.

J. Where To Obtain Additional Information

This and other CDC announcements, the necessary applications, and associated forms can be found on the CDC Web site, Internet address: http://www.cdc.gov. Click on “Funding” then “Grants and Cooperative Agreements”.

Pre-Application Conference Call

For interested applicants, one pre-application technical assistance call will be conducted. The call will be held June 30, 2003, at 2 p.m. Eastern Time for one hour. The conference call name is Training Program for Violence Prevention and the bridge number for the conference call is 404-639-3277, and the conference pass code is #123976.

For general questions about this announcement, contact: Technical Information Management, CDC Procurement and Grants Office, 2920 Brandywine Road, Atlanta, GA 30341-4146, Telephone: (770) 488-2700.

For business management and budget assistance, contact: Jim Masone, Grants Management Specialist, Procurement and Grants Office, Centers for Disease Control and Prevention, 2920 Brandywine Road, Atlanta, GA 30341-4146, Telephone: (770) 488-2736, e-mail address: zft2@cdc.gov.

For program technical assistance, contact: Rita K. Noonan, Ph.D., National Center for Injury Prevention and Control, Centers for Disease Control and Prevention, 4770 Buford Highway, NE., Mailstop K60, Atlanta, GA 30341, Telephone (770) 488-1532, rnoonan@cdc.gov.

Dated: June 13, 2003.
Edward Schultz,
Acting Director, Procurement and Grants Office, Centers for Disease Control and Prevention.

[FR Doc. 03-15454 Filed 6-18-03; 8:45 am]

BILLING CODE 4163-18-P